DEPARTMENT OF HEALTH AND HUMAN SERVICES

Health Resources and Service Administration

Advisory Committee on Interdisciplinary, Community-Based Linkages, Notice for Request for Nominations

SUMMARY: The Health Resources and Services Administration (HRSA) is requesting nominations to fill eleven upcoming vacancies on the Advisory Committee on Interdisciplinary, Community-Based Linkages (ACICBL).

Authority: 42 U.S.C. 294f, section 757 of the Public Health Service (PHS) Act, as amended by the Patient Protection and Affordable Care Act. The Advisory Committee is governed by the Federal Advisory Act, Public Law 92-463, as amended (5 U.S.C. Appendix 2) which sets forth standards for the formation and use of advisory committees.

DATES: The Agency must receive nominations on or before May 1, 2015.

ADDRESSES: All nominations are to be submitted either by mail to Joan Weiss, Ph.D., RN, CRNP, FAAN, Designated Federal Official, ACICBL, Division of Medicine and Dentistry, Bureau of Health Workforce (BHW), Health Resources and Services Administration (HRSA), Parklawn Building, Room12C-05, 5600 Fishers Lane, Rockville, Maryland 20857 or email to Dr. Joan Weiss at jweiss@hrsa.gov.

FOR FURTHER INFORMATION CONTACT: For additional information, contact Dr. Joan Weiss, Division of Medicine and Dentistry, BHW, by email at jweiss@hrsa.gov or telephone at (301) 443-0430. A copy of the current committee membership, charter and reports can be obtained by accessing the Advisory Committee Web site at http://www.hrsa.gov/advisorycommittees/bhpradvisory/acicbl/index.htm.

SUPPLEMENTARY INFORMATION: Under the authorities that established the ACICBL and the Federal Advisory Committee Act, HRSA is requesting nominations for eleven committee members. The ACICBL provides advice and recommendations to the Secretary of Health and Human Services (Secretary) concerning policy, program development, and other matters of significance related to interdisciplinary, community-based training grant programs authorized under sections 750-759, title VII, part D of the PHS Act, as amended. The ACICBL prepares an annual report describing the activities conducted during the fiscal year, identifying findings and developing recommendations to enhance these title VII programs. The annual report is submitted to the Secretary and ranking members of the Senate Committee on Health, Education, Labor and Pensions, and the House of Representatives Committee on Energy and Commerce. The ACICBL develops, publishes, and implements performance measures for programs under this part; develops and publishes guidelines for longitudinal evaluations (as described in section 761(d)(2)) for programs under this part; and recommends appropriation levels for programs under this part.

The Department of Health and Human Services is requesting a total of eleven nominations for members of the ACICBL from schools that have administered or are currently administering awards from the following programs/areas: Area Health Education Centers (3); Education and Training Relating to Geriatrics (2); Rural Interdisciplinary Training (2); Chiropractic Demonstration Program (1); Preventive and Primary Care Training for Podiatric Physicians (1); and Social Work (2). Among these nominations, students, residents, and/or fellows from these programs are encouraged to apply.

HRSA has a special interest, and the legislation requires a fair balance between the health professions and members from urban and rural areas, a broad geographic distribution, and the adequate representation of women and minorities. HRSA encourages nominations of qualified candidates from these groups as well as individuals with disabilities.

To allow the Secretary to choose from a highly qualified list of potential candidates, more than one nomination is requested per open position. Interested persons may nominate one or more qualified persons for membership. Self-nominations are also accepted. Nominations must be typewritten. The following information should be included in the package of materials submitted for each individual being nominated for consideration: (1) A letter of nomination that clearly states the name and affiliation of the nominee, the basis for the nomination (i.e., specific attributes that qualify the nominee for service in this capacity), a statement that the nominee is willing to serve as a member of the Committee and appears to have no conflict of interest that would preclude the Committee membership—potential candidates will be asked to provide detailed information concerning such matters as financial holdings, consultancies, research grants, and/or contracts to permit an evaluation of possible sources of conflicts of interest; (2) the nominator's name, address, and daytime telephone number, and the home/or work address, telephone number, and email address of the individual being nominated; (3) a current copy of the nominee's curriculum vitae; and (4) a statement of interest from the nominee to support experience working with title VII interdisciplinary, community-based training grant programs; expertise in the field; and personal desire in participating on a National Advisory Committee.

Members will receive a stipend for each official meeting day of the Committee, as well as per diem and travel expenses as authorized by section 5 U.S.C. 5703 for persons employed intermittently in Government service.

Appointments shall be made without discrimination on the basis of age, ethnicity, gender, sexual orientation, and cultural, religious, or socioeconomic status. Qualified candidates will be invited to serve a 3-year term.

Jackie Painter,
Director,Division of the Executive Secretariat.

[FR Doc. 2015-05189 Filed 3-5-15; 8:45 am]

BILLING CODE 4165-15-P